ENVIRONMENTAL PROTECTION AGENCY

[FRL-8253-7]

Notice of Approval of the Primacy Application for National Primary Drinking Water Regulations for the State of Nebraska

AGENCY: Environmental Protection Agency (EPA).

ACTION: Notice of approval and solicitation of requests for a public hearing.

SUMMARY: The Environmental Protection Agency (EPA) is hereby giving notice that the State of Nebraska is revising its approved Public Water Supply Supervision Program under the Nebraska Department of Health and Human Services. EPA has determined that these revisions are no less stringent than the corresponding federal regulations. Therefore, EPA intends to approve these program revisions.

DATES: This determination to approve the Nebraska program revision is made pursuant to 40 CFR 142.12(d)(3). This determination shall become final and effective on January 10, 2007, unless (1) a timely and appropriate request for a public hearing is received or (2) the Regional Administrator elects to hold a public hearing on his own motion. Any interested person, other than federal agencies, may request a public hearing. A request for a public hearing must be submitted to the Regional Administrator at the EPA Region 7 address shown below by January 10, 2007. If a substantial request for a public hearing is made within the requested 30-day time frame, a public hearing will be held and a notice will be given in the Federal Register and a newspaper of general circulation. Frivolous or insubstantial requests for a hearing may be denied by the Regional Administrator. All interested parties may request a public hearing on the approval to the Regional Administrator at the EPA Region 7 address shown below.

ADDRESSES: Any request for a public hearing shall include the following information: (1) Name, address, and telephone number of the individual organization or other entity requesting a hearing; (2) a brief statement of the requesting person's interest in the Regional Administrator's determination and a brief statement about the information that the requesting person intends to submit at such hearing; (3) the signature of the individual making the request or, if the request is made on behalf of an organization or other entity, the signature of a responsible official of the organization or other entity. Requests for Public Hearing shall be addressed to: Regional Administrator, U.S. Environmental Protection Agency Region 7, 901 North 5th Street, Kansas City, KS 66101.

All documents relating to this determination are available for inspection between the hours of 9 a.m. and 4 p.m., Monday through Friday, at the following offices: Nebraska Department of Health and Human Services, Department of Regulation and Licensure, Environmental Health Service, 301 Centennial Mall South, 3rd Floor, P.O. Box 95007, Lincoln, NE 68509.

U.S. Environmental Protection Agency Region 7, Water, Wetlands and Pesticides Division, Drinking Water Management Branch, 901 North 5th Street, Kansas City, KS 66101.

FOR FURTHER INFORMATION CONTACT: Kenneth L. Deason, EPA Region 7, Drinking Water Management Branch, (913) 551-7585 or toll-free at 800-223-0425, or by e-mail at deason.ken@epa.gov.

SUPPLEMENTARY INFORMATION: Notice is hereby given that EPA has determined to approve an application by the Nebraska Department of Health and Human Services to incorporate the following EPA National Primary Drinking Water Regulations: (1) Arsenic and Clarifications to Compliance and New Source Monitoring Rule (January 22, 2001, 66 FR 6975); (2) Filter Backwash Recycling Rule (June 8, 2001, 66 FR 31086); (3) Lead and Copper Rule Minor Revisions (January 12, 2000, 65 FR 1950); (4) Long Term 1 Enhanced Surface Water Treatment Rule (January 14, 2002, 67 FR 1812); (5) Public Notification Rule (May 4, 2000, 65 FR 25982); (6) Radionuclides Rule (December 7, 2000, 65 FR 76708); and (7) Variance and Exemption Rule (August 14, 1998, 63 FR 43834). The application demonstrates that Nebraska has adopted drinking water regulations that satisfy the National Primary Drinking Water Regulations. EPA has determined that Nebraska's regulations are no less stringent than the corresponding federal regulations and that Nebraska continues to meet all requirements for primary enforcement responsibility as specified in 40 CFR 142.10.

(Authority: Section 1413 of the Safe Drinking Water Act, as amended and 40 CFR 142.10, 142.12(d) and 142.13)

Dated: November 20, 2006.
John B. Askew,
Regional Administrator, Region 7.

[FR Doc. E6-20977 Filed 12-8-06; 8:45 am]

BILLING CODE 6560-50-P